DEPARTMENT OF HOMELAND SECURITY

Transportation Security Administration

Intent To Request Approval From the Office of Management and Budget (OMB) of One Public Collection of Information; Law Enforcement Officer Flying Armed Training

AGENCY: Transportation Security Administration (TSA), Federal Air Marshal Service (FAMS), DHS.

ACTION: Notice.

SUMMARY: TSA invites public comment on a new information collection requirement abstracted below that will be submitted to OMB for approval in compliance with the Paperwork Reduction Act. The collection involves the Federal Air Marshal Service (FAMS) maintenance of a database of all Federal, State and local law enforcement agencies that have received the Law Enforcement Officer (LEO) Flying Armed Training course.

DATES: Send your comments by August 4, 2008.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (703) 603-0822.

SUPPLEMENTARY INFORMATION: In accordance with the Paperwork Reduction Act of 1995 (44 U.S.C. 3501 et seq.), an agency may not conduct or sponsor, and a person is not required to respond to a collection of information, unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, through the use of appropriate automated, electronic, mechanical, or other technological collection techniques or other forms of information technology.

Purpose of Data Collection

TSA is requesting the collection of this information to comply with 49 CFR 1544.219, which requires Federal LEOs or full-time municipal, county or state LEOs who are direct employees of government agencies, to complete the LEOs Flying Armed training course in order to fly armed. The course is a non-tactical overview of the conditions under which an officer may fly armed and the required conduct and duties of the LEO while flying armed. This collection would permit TSA to collect identifying information from law enforcement agencies requesting the LEO Flying Armed training course.

Description of Data Collection

Information will be gathered from law enforcement agencies who have requested the LEO Flying Armed training course. The information would be gathered to confirm that the agencies are eligible for this program (i.e. that they are active law enforcement agencies whose officers have an operational need to fly armed). Federal, State, and local law enforcement agencies will be required to contact the TSA/FAMS via phone or e-mail and provide the full name of the agency's designated point of contact, agency name, and agency address, to obtain the LEO Flying Armed training course. The FAMS will maintain a record of law enforcement agencies and their point of contact that have received the training materials. If an issue arises during the screening and verification process regarding the authenticity of an agency that requests training materials, no training materials will be supplied until that issue has either been confirmed or resolved and a record of such will be maintained.

Upon completion of the training, the LEO will present his or her credentials at the airport in order to fly armed. The TSA agent on site will contact the TSA's Transportation Security Operations Center (TSOC), for verification that the LEO is eligible to fly armed based upon completion of the training. To verify the LEO's identity, the TSOC representative will direct the TSA agent to ask the LEO a series of questions that will be used to verify the LEO's identity.

Issued in Arlington, Virginia, on May 28, 2008.
Fran Lozito,
Director, Business Management Office, Operational Process and Technology.

[FR Doc. E8-12287 Filed 6-2-08; 8:45 am]

BILLING CODE 9110-05-P